DEPARTMENT OF ENERGY

Federal Energy Regulatory Commission

Combined Notice of Filings #1

Take notice that the Commission received the following exempt wholesale generator filings:

Docket Numbers: EG13-9-000.

Applicants: Shiloh IV Lessee, LLC.

Description: Notice of Self-Certification of Exempt Wholesale Generator Status of Shiloh IV Lessee, LLC.

Filed Date: 11/7/12.

Accession Number: 20121107-5107.

Comments Due: 5 p.m. ET 11/28/12.

Take notice that the Commission received the following electric rate filings:

Docket Numbers: ER11-4267-003; ER11-4270-003; ER11-4269-004; ER11-4268-003; ER11-113-004; ER10-2682-003; ER12-1680-001.

Applicants: Algonquin Energy Services Inc., Algonquin Power Windsor Locks LLC, Algonquin Tinker Gen Co., Algonquin Northern Maine Gen Co., Sandy Ridge Wind, LLC, Granite State Electric Company, Minonk Wind, LLC.

Description: Notice of Change in Status of Algonquin Energy Services Inc., et al.

Filed Date: 11/7/12.

Accession Number: 20121107-5137.

Comments Due: 5 p.m. ET 11/28/12.

Docket Numbers: ER12-2654-002.

Applicants: Netsales & Arts, Inc.

Description: mbr_tar to be effective 9/30/2012.

Filed Date: 11/7/12.

Accession Number: 20121107-5118.

Comments Due: 5 p.m. ET 11/28/12.

Docket Numbers: ER13-214-001.

Applicants: Middletown Cogeneration Company LLC.

Description: Middletown Cogen Supplemental Tariff to be effective 12/1/2012.

Filed Date: 11/7/12.

Accession Number: 20121107-5126.

Comments Due: 5 p.m. ET 11/28/12.

Docket Numbers: ER13-215-001.

Applicants: Haverhill Cogeneration Company LLC.

Description: Haverhill Cogen Supplemental Filing to be effective 12/1/2012.

Filed Date: 11/7/12.

Accession Number: 20121107-5125.

Comments Due: 5 p.m. ET 11/28/12.

Docket Numbers: ER13-338-000.

Applicants: Shiloh IV Lessee, LLC.

Description: Shiloh IV Lessee MBR Application Filing to be effective 12/15/2012.

Filed Date: 11/7/12.

Accession Number: 20121107-5099.

Comments Due: 5 p.m. ET 11/28/12.

Docket Numbers: ER13-339-000.

Applicants: Entergy Arkansas, Inc.

Description: Service Agreement 670 to be effective 1/1/2013.

Filed Date: 11/7/12.

Accession Number: 20121107-5101.

Comments Due: 5 p.m. ET 11/28/12.

Docket Numbers: ER13-340-000.

Applicants: PacifiCorp.

Description: Construction Agreement to Move Chehalis into PacifiCorp's BA to be effective 11/8/2012.

Filed Date: 11/7/12.

Accession Number: 20121107-5122.

Comments Due: 5 p.m. ET 11/28/12.

Docket Numbers: ER13-341-000.

Applicants: Southwest Power Pool, Inc.

Description: Energy Imbalance Market Offer Cap Update—2013 to be effective 1/1/2013.

Filed Date: 11/7/12.

Accession Number: 20121107-5123.

Comments Due: 5 p.m. ET 11/28/12.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: November 8, 2012.
Nathaniel J. Davis, Sr.,
Deputy Secretary.

[FR Doc. 2012-27894 Filed 11-15-12; 8:45 am]

BILLING CODE 6717-01-P